DEPARTMENT OF AGRICULTURE

Center for Nutrition Policy and Promotion; Agency Information Collection Activities; Current Collection: Comment Request—Innovations for Healthy Kids Challenge To Promote the Open Government Initiative

AGENCY: Center for Nutrition Policy and Promotion, USDA.

ACTION: Notice.

SUMMARY: In the legislation that established the Department of Agriculture (USDA) (the Organic Act of 1862, 7 U.S.C. 2201), Congress gave the Department authority for nutrition education and information dissemination. The USDA, Center for Nutrition Policy and Promotion has been granted emergency approval to conduct the information collection, Innovations for Healthy Kids Challenge to Promote the Open Government Initiative. The collection will contribute to the goal of achieving the President's Open Government Initiative and increase access to socially relevant technologies that seek to improve eating and physical activity behaviors among children. In accordance with the Paperwork Reduction Act of 1995, this notice invites the general public and other public agencies to comment on this current information collection. This is a current collection to develop applications and games using a recently released USDA nutrition data on Data.gov

DATES: Written comments on this notice must be submitted on or before June 28, 2010.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jackie Haven, Director, Nutrition Marketing and Communications Division, Center for Nutrition Policy and Promotion, United States Department of Agriculture, 3101 Park Center Drive, Room 1034, Alexandria, Virginia, 22302. Comments may also be submitted via fax to the attention of Jackie Haven at 703-305-3300 or via e-mail to jackie.haven@cnpp.usda.gov. Comments will also be accepted through the Federal eRulemaking Portal. Go to http://www.regulations.gov, and follow the online instructions for submitting comments electronically.

All written comments will be open for public inspection at the office of the Food, Nutrition and Consumer Services during regular business hours (8:30 a.m. to 5 p.m. Monday through Friday) at 3101 Park Center Drive, Room 1034, Alexandria, Virginia 22302.

All responses to this notice will be summarized and provided to the Office of Management and Budget (OMB). All comments will also become a matter of public record.

FOR FURTHER INFORMATION CONTACT: Requests for additional information or copies should be directed to Jackie Haven (703) 305-7600.

SUPPLEMENTARY INFORMATION:

Title: Innovations for Healthy Kids Challenge to Promote the Open Government Initiative.

OMB Number: 0584-0555.

Expiration Date: September 30, 2010.

Type of Request: Notice.

Abstract: The Innovations for Healthy Kids Challenge is an initiative of the USDA Food, Nutrition and Consumer Services. The Challenge is intended to provide recognition to American entrepreneurs, software developers, and students for developing innovative software applications using a recently released USDA nutrition data on Data.gov. The Challenge was launched March 8, 2010. A description of the Challenge and information about registration and how to enter can be found at http://www.appsforkids.com. With childhood obesity continuing to rise, the goal of the Challenge is to motivate the creation of innovative, fun, and engaging applications or games that encourage children, especially “tweens” (aged 9-12), to eat more healthfully and be more physically active.

The purpose of the Challenge is to develop new and innovative technology to reach children, either directly or through their parents using the USDA nutrition dataset found at http://www.data.gov/details/1294. This initiative will not only increase access to socially relevant technologies that seek to improve eating and physical activity behaviors among children but could also expand the tools available through the MyPyramid Web site. The Challenge will explore ways to address the following behavioral objectives:

○ Increase consumption of whole grains, fruit and vegetables, low- or non-fat milk, and lean sources of protein.

○ Develop contemporary and relevant nutrition education tools for kids.

○ Address calorie intake and food portion sizes.

○ Increase physical activity.

The demand for innovative and relevant nutrition education technologies is needed to address the epidemic rates of obesity within the United States. Developers, programmers, highly motivated gamers and the general public are invited to develop educational games and applications that are based on the Food Nutrition and Consumer Services (FNCS) Dataset. The data has been pre-calculated for common portion sizes and portion increments, which will allow developers to streamline their programming. The calories from solid fats, added sugars, and alcohol in each portion size have also been pre-calculated, to simplify the calorie calculations.

As an option, submissions may use the USDA nutrition source code or any other data set(s) provided on Data.gov in addition to the USDA nutrition dataset required for the contest. Submissions may operate in a variety of platforms broadly available and at no expense (free of charge) to the public. Applications must incorporate at least one of the following concepts, either independently or in combination:

• Teaching kids to eat more whole grain.

• Increasing fruit and vegetable consumption.

• Focusing on consuming more low- or non-fat milk.

• Choosing lean sources of protein (meat and beans).

• Making food group education fun.

• Understanding calories and energy balance.

• Increasing choices of foods with high nutrition value and decreasing amounts of foods with solid (saturated) fats and added sugars (i.e., “extra” calories), and decreasing amounts of sodium.

• Identifying and consuming proper food portion sizes.

• Being more physically active.

• Balancing physical activity and food intake.

Challenge participants will own the intellectual property rights to submitted applications but USDA will maintain a royalty free license to post or link to the application on the official USDA and nutritional partner Web sites and make it publically available, if desired.

Affected Public: The affected public are individual and households; businesses (e.g., programmers, students, technology professionals and gamers).

Estimated Number of Innovations for Healthy Kids Challenge Respondents: Challenge participants will voluntarily develop applications and games using the FNCS nutrition data. Based on a review of initiatives with similar scope, 100 responses are anticipated from the affected public.

Estimated Number of Responses per Repondent: 1.

Estimated Total Annual Responses: 100.

Estimated Time per Response: Total time to respond to this information collection will include completing the application and developing products using the FNCS nutrition data. Based on information provided by the Challenge administrator, it is estimated that respondents will need about 3,300 minutes (55 hours) to develop products and approximately 15 minutes (.25 hours) to complete the online application.

Table 1—Innovations for Healthy Kids Challenge Tracker Estimated Burden Hours
Respondent type | Affected public | Number of respondents | Number of responses per respondent | Est. total annual responses | Hours per response | Total burden
Contest participants (e.g., programmers, students, technology professionals and gamers) | Individual/household | 25 | 1 | 25 | 55.25 | 1,381.25
| Business | 75 | 1 | 75 | 55.25 | 4,143.75
Total Annual Burden Estimates |  | 100 |  | 100 |  | 5,525.00

Estimated Annual Burden Hours: 5,525.

Dated: April 20, 2010.
Robert Post,
Acting Executive Director, Center for Nutrition Policy and Promotion.

[FR Doc. 2010-9778 Filed 4-27-10; 8:45 am]

BILLING CODE 3410-30-P